DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Sub Pay Pools (SPPs)/Performance Review Boards (PRBs). The purpose of the SPP/PRBs is to provide fair and impartial review of the annual SES performance appraisal prepared by the senior executive's immediate and second level supervisor; to make recommendations to appointing officials regarding acceptance or modification of the performance rating; and to make recommendations for performance bonuses and basic pay increases. Composition of the specific SPP/PRBs will be determined on an ad hoc basis from among individuals listed below:

ADAMS, P.C. MS.

ALLARD, T. DR.

ARCHITZEL, D. RADM

ARNY, L.W. MR.

BALDERSON, D. MS.

BALDERSON, W.M. MR.

BARBER, A.H. MR.

BARNUM, H.C. MR.

BAUMAN, D.M. MR.

BELAND, R.W. DR.

BETRO, T.A. MR.

BILLINGSLEA, M. MR.

BLAIR, A.K. MS.

BLINCOE, R.J. MR.

BOURBEAU, S.J. MS.

BOZIN, S.D. RADM

BRANCH, E.B. MR.

BRAY, W.P. MR.

BRENNAN, A.M. MS.

BROOK, D. DR.

BROTHERTON, A.E. MS.

BROWN, M. RDML

BROWN, W.A. RDML

CALI, R.T. MR.

CAREY, R.J. MR.

CARLIN, R.T. DR.

CARR, N. RDML

CASTELLAW, J. LTGEN

COHN, H.A. MR.

COLEMAN, R. LTGEN

COOK, C.E. MR.

COOLEY, K. MR.

COX, A.D. MR.

CREEDON, C. MR.

CWALINA, B.B. MR.

DAVENPORT, D. RADM

DAVIS, A.R. MS.

DAVIS, L.C. DR.

DEBBINK, D. VADM

DECKER, J. MS.

DECKER, M.H. MR.

DEITCHMAN, M. MR.

DELIGNE, W.J. MR.

DEUTSCH, K. RADM

DILLON, B. MR.

DRISKO, M. MS.

DUNAWAY, D. RDML

DUNN, S.C. MR.

EASTBURG, S. RDML

ECCLES, T. RDML

EHRLER, S.M. MR.

ELLIS, W.G. MR.

ENEWOLD, G. RADM

ESSIG, P. CAPT

ETTER, D.M., THE HONORABLE

EVANS, G.L. MS.

EVANS, I.E. MS.

EVANS, J.J. MR.

EXLEY, R.L. MR.

FERGUSON, J.F. MR.

FERGUSON, M. VADM

FERKO, J.G. MR.

FISCHER, J.W. DR.

FITZGERALD, M. VADM

FLYNN, T.V. RDML

FRANKFURT, T. MR.

FRANTZ, G.T. MR.

FRICK, M.S. RDML

GAHAGAN, D. CAPT

GALGANO, M. MR.

GALLOWAY, J. MR.

GAVIN, V.S. MR.

GIBBS, R. MR.

GLAS, R. MR.

GODDARD, C.H. RDML

GONZALEZ, A.H. MR.

GOODHART, J.C. MR.

GORDON, F.E. DR.

GRIFFES, M.D. MR.

GRIFFIN, R. MR.

GUARD, H. MR.

HAMILTON, C. RADM

HANEY, C. RADM

HANNAH, B.W. DR.

HARNED, N. MS.

HARRELL, M. MS.

HARVEY, J.C. VADM

HAYNES, R.S. MR.

HEELY, T. RADM

HERR, F. DR.

HILARIDES, W.H. RDML

HOGUE, R.D. MR.

HONECKER, M.W. MR.

HOWARD, J.S. MR.

ISELIN, S. MR.

JAGGARD, M.F. MR.

JAMES, J.H. MR.

JIMENEZ, F., THE HONORABLE

JOHNSON, J.L. MR.

JOHNSON, S. RADM

JONES, W. DR.

JUNKER, B.R. DR.

KARLE, I. DR.

KASKIN, J.D. MR.

KAY, W. MS.

KEEN, S.L. MS.

KEENEY, C. MS.

KLEINTOP, M.U. MS.

KRAMLICH, R.S. LTGEN

KRASIK, S.A. MS.

KRUM, R.A. MR.

KUNESH, N.J. MR.

LAKE, R. BGEN

LANDAU, S.P. MR.

LAUX, T.E. MR.

LAWRENCE, J.P. DR.

LEACH, R.A. MR.

LEDVINA, T.N. MR.

LEFEBVRE, P. MR.

LEGGIERI, S.R. MS.

LEIKACH, K. MR.

LOFTUS, J.V. MS.

LONG, L. MS.

LUCCHINO, C. MS.

LUNDBERG, D.A. MR.

LUNNEY, J.E. MR.

LUTTERLOH, S. MR.

MAGLICH, M.F. MR.

MAGNUS, R. LTGEN

MAGUIRE, M.M. MS.

MARSHALL, J.B. MR.

MASCIARELLI, J.R. MR.

MCCARTHY, E. MS.

MCCARTHY, J. MR.

MCCORMACK, JR., D.F. MR.

MCCOY, K.M. RDML

MCCURDY, J. MR.

MCGRATH, M.F. MR.

MCLAUGHLIN, P.M. MR.

MCMAHON, M. RDML

MCNAIR, J.W. MR.

MEADOWS, L.J. MS.

MEEKS JR., A.W. DR.

MENG, J.C. DR.

MILLER, C.A. MR.

MITCHELL, S. MR.

MOLZAHN, W.R. MR.

MONTGOMERY, J.A. DR.

MURRAY, S. MS.

MUTH, C.C. MS.

NAVAS JR., W.A., THE HONORABLE

NYALKO, L.J. MS.

O'NEIL, S.M. MR.

PAOLETTI, C. MR.

PENN, B.J., THE HONORABLE

PERSONS, B.J. MR.

PIC, J.E. MR.

PIVIROTTO, R.R. MR.

PLUNKETT, B.J. MR.

RAPS, S.P. MS.

REEVES, C.R. MR.

REIST, J. BGEN

ROBERTS, T. MS.

RODRIGUEZ, RDML

ROLLOW, T.A. MR.

ROSENTHAL, R.J. MR.

RYZEWIC, W.H. MR.

SANDEL, E.A. MS.

SANDERS, D.K. MR.

SCHAEFER, J.C. MR.

SCHREGARDUS, D.R. MR.

SCHUETTE, L. DR.

SEE, V. RDML

SHANNON, W. RDML

SHARP, B.A. MR.

SHEPHARD, M.R. MS.

SIEL JR., C.R. MR.

SKINNER, W. RDML

SMERCHANSKY, J.H. MR.

SMITH, R.F. MR.

SMITH, R.M. MR.

SOLHAN, G.W. MR.

SOMOROFF, A.R. DR.

SORENSON, D. CAPT

SPANN, L.H. MR.

STACKLEY, S. MR.

STEFFEE, D.P. MR.

STEWART, P. CAPT

STILLER, A.F. MS.

SUMMERALL, W. MR.

TAMBURRINO, P.M. MR.

TESCH, T.G. MR.

THACKRAH, J. MR.

THOMSEN, J.E.

TIMME, W.G. RDML

TOWNSEND, D.K. MS.

WALLS, V.J. MR.

WARD, J.D. MR.

WEDDEL, D.W. MR.

WEYMAN, A.S. MR.

WHITTEMORE, A. MS.

WHITTMANN, J. MR.

WIERINGA, J.A. RDML

WOOD, B.H. MR.

FOR FURTHER INFORMATION CONTACT: Ms. LaToya Bedgood, Office of Civilian Human Resources, telephone: 202-685-6659.

Dated: November 3, 2008.
T.M. Cruz,
Lieutenant Commander, Judge Advocate General's Corps, U.S. Navy, Federal Register Liaison Officer.

[FR Doc. E8-26649 Filed 11-6-08; 8:45 am]

BILLING CODE 3810-FF-P